ENVIRONMENTAL PROTECTION AGENCY

[FRL-7773-7]

Notice of Proposed Administrative Consent Agreement and Final Order Pursuant to Section 309(g)(4) of the Clean Water Act: In the Matter of Paul B. and Susan D. Kartchner

AGENCY: Environmental Protection Agency.

ACTION: Notice; request for public comment.

SUMMARY: The U.S. Environmental Protection Agency (EPA), Region IX, is hereby giving notice of a proposed Consent Agreement and Final Order (“CA/FO”), which resolves penalties for alleged violations of section 404 of the Clean Water Act (“CWA”). The respondents to the CA/FO are Paul B. and Susan D. Kartchner (the “Kartchners”). Through the proposed CA/FO, the Kartchners will pay $5,550 as a penalty for alleged violations involving the discharge of fill material into the San Pedro River, which is a water of the United States located in Cochise County, Arizona.

DATES: Comments must be submitted on or before July 19, 2004. Any person who comments on the proposed CA/FO shall be given notice of any hearing held and a reasonable opportunity to be heard and to present evidence.

ADDRESSES: Requests for copies of the proposed CA/FO should be addressed to: Richard Campbell, Attorney Advisor, U.S. Environmental Protection Agency, Region IX, 75 Hawthorne Street, Mailcode: ORC-2, San Francisco, CA 94105.

Comments regarding the proposed CA/FO should be addressed to: Danielle Carr, Regional Hearing Clerk, U.S. Environmental Protection Agency, Region IX, 75 Hawthorne Street, San Francisco, CA 94105.

Comments should reference the following information:

Case Name: In the Matter of Paul B. and Susan D. Kartchner.

Docket Number: CWA-9-2004-0001.

FOR FURTHER INFORMATION CONTACT: Additional information on this matter may be obtained by contacting Richard Campbell at the above address or by telephone at (415) 972-3870.

SUPPLEMENTARY INFORMATION: Procedures by which the public may submit written comments or participate in the proceedings are described in the Consolidated Rules of Practice Governing the Administrative Assessment of Civil Penalties, Issuance of Compliance or Corrective Action Orders, and the Revocation, Termination or Suspension of Permits, 40 CFR part 22. The Final Order will be issued at the close of the thirty-day comment period unless a public hearing is requested.

Dated: June 3, 2004.
Alexis Strauss,
Director, Water Division, Region IX.

[FR Doc. 04-13685 Filed 6-16-04; 8:45 am]

BILLING CODE 6560-50-P